DEPARTMENT OF THE INTERIOR

Bureau of Ocean Energy Management

[OMB Control Number 1010—New; MMAA104000]

Proposed Information Collection; Atlantic Offshore Wind Energy Development: Public Attitudes, Values, and Implications for Tourism and Recreation; Comment Request

AGENCY: Bureau of Ocean Energy Management, Interior.

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns a new survey on the potential impacts of Atlantic offshore wind energy development on coastal tourism and recreation.

DATES: Submit written comments by September 2, 2014.

ADDRESSES: Please send your comments on this ICR to Arlene Bajusz, Information Collection Clearance Officer, Bureau of Ocean Energy Management, 381 Elden Street, HM-3127, Herndon, VA 20170 (mail); or arlene.bajusz@boem.gov (email); or 703-787-1209 (fax). Please reference 1010—New in your comment and include your name and return address.

FOR FURTHER INFORMATION CONTACT: Arlene Bajusz, Office of Policy, Regulations, and Analysis at arlene.bajusz@boem.gov or (703) 787-1025 for a copy of the survey questions. For more information on the survey, contact Brian Krevor, Office of Renewable Energy Programs at brian.krevor@boem.gov or (703) 787-1340.

SUPPLEMENTARY INFORMATION:

OMB Control Number: 1010-New.

Title: Atlantic Offshore Wind Energy Development: Public Attitudes, Values, and Implications for Tourism and Recreation.

Abstract: Under the Outer Continental Shelf (OCS) Lands Act (43 U.S.C. 1331-1356), BOEM is responsible for conducting OCS lease sales and for monitoring and mitigating adverse impacts that might be associated with offshore energy development. The Energy Policy Act of 2005 (42 U.S.C. 13201 et seq.) authorizes the Secretary of the Interior to issue leases, easements, and rights-of-way for offshore renewable energy activities in Federal waters, such as offshore wind power development. In fulfilling these responsibilities, BOEM must take into consideration the impacts of OCS activities on recreational and cultural resources. While we have seen significant interest in offshore wind power development in recent years, the absence of baseline data for specific areas along the Atlantic coast and the absence of a broader regional study on tourism and wind power have made it difficult to identify and analyze the potential impacts of offshore wind development on coastal tourism and recreation. Additional information on these potential impacts will contribute to better planning and decision-making for BOEM and other stakeholders, including other Federal agencies and State and local governments.

Under a cooperative agreement awarded by the Department of the Interior, the University of Delaware will conduct a survey to assess the impact of offshore wind power projects on coastal recreation and tourism from Massachusetts to South Carolina. The survey will gauge public perceptions of offshore wind energy projects and how development could impact future recreation and visitation choices. BOEM will use this information, along with other economic and environmental information, in our offshore wind decision-making process and marine spatial planning efforts. States and coastal communities will use the information for local coastal planning efforts.

The data collection will be done by an internet-based survey. There are two versions of the survey: One for participants (people who have visited an East coast beach in the last 3 years) and one for nonparticipants (those who have not visited a beach within the last 3 years). The nonparticipant survey is a subset of the participant survey. The survey includes questions about wind projects being located at a beach as well as demographic questions.

Frequency: One time.

Obligation to Respond: Voluntary.

Description of Respondents: Individuals.

Estimated Number of Annual Respondents and Hour Burden: 527.

Activity | Annual number of responses | Completion time per response (minutes) | Total annual burden hours
Participant Survey | 1,400 | 20 | 467
Nonparticipant Survey | 360 | 10 | 60
Totals | 1,760 |  | 527

Estimated Reporting and Recordkeeping Nonhour Cost Burden: None.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: June 23, 2014.
Deanna Meyer-Pietruszka,
Chief, Office of Policy, Regulations, and Analysis.

[FR Doc. 2014-15346 Filed 6-30-14; 8:45 am]

BILLING CODE 4310-MR-P